DEPARTMENT OF THE INTERIOR

Bureau of Indian Affairs

Land Acquisitions

AGENCY: Bureau of Indian Affairs, Interior.

ACTION: Notice of decision to vacate Final Agency Determination to take land into trust under 25 CFR part 151.

SUMMARY: The Assistant Secretary—Indian Affairs vacates the Final Agency Determination that was published in the Federal Register on June 28, 1996, to take approximately 165 acres of land into trust for the Mashantucket Pequot Indian Tribe of Connecticut. This notice is published in the exercise of authority delegated by the Secretary of the Interior to the Assistant Secretary—Indian Affairs by 209 Departmental Manual 8.1.

FOR FURTHER INFORMATION CONTACT: Larry E. Scrivner, Deputy Director, Office of Trust Responsibilities, MS 4513 MIB, 1849 C Street, NW, Washington, DC 20240; Telephone 202-208-5831.

SUPPLEMENTARY INFORMATION: On May 22, 1996, the Assistant Secretary—Indian Affairs made a final decision to acquire approximately 165 acres of land into trust for the Mashantucket Pequot Indian Tribe of Connecticut. A Notice of Final Agency Determination was published in the Federal Register on June 28, 1996, 61 FR 33764. The notice provided for judicial review of the administrative decision and stated that the Secretary shall accept title in the name of the United States in trust for the Mashantucket Pequot Indian Tribe the five tracts of land described below no sooner than 30 days after the date of the notice. The Department has not accepted the land into trust due to ongoing litigation. By letter dated February 21, 2002, the Mashantucket Pequot Indian Tribe withdrew its application that requested the Secretary to accept title to the 165 acre parcel into trust.

At the request of the Tribe, our final decision of May 22, 1996, to acquire approximately 165 acres of land into trust for the Mashantucket Pequot Indian Tribe of Connecticut is withdrawn. Effective immediately, the Assistant Secretary—Indian Affairs vacates the Final Agency Determination that was issued on June 28, 1996, to accept title to the land described below into trust for the Mashantucket Pequot Indian Tribe of Connecticut.

New London County, Connecticut

Lot #101 Town of North Stonington

Lot #3 Town of North Stonington

Lot #30 Town of Ledyard

Lot #58 Town of Ledyard

Lot #72 Town of Ledyard

Lot #76 Town of Ledyard.

Lot #82 Town of Ledyard

Dated: March 5, 2002.
Neal A. McCaleb,
Assistant Secretary—Indian Affairs.

[FR Doc. 02-6462 Filed 3-15-02; 8:45 am]

BILLING CODE 4310-W7-P